DEPARTMENT OF HOUSING AND URBAN DEVELOPMENT

[Docket No. FR-7070-N-46]

30-Day Notice of Proposed Information Collection: Application for Community Compass TA and Capacity Building Program NOFO and Awardee Reporting, OMB Control No.: 2506-0197

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: October 5, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street, SW, Room 8210, Washington, DC 20410-5000; email PaperworkReductionActOffice@hud.gov.

FOR FURTHER INFORMATION CONTACT: Colette Pollard, Reports Management Officer, REE, Department of Housing and Urban Development, 7th Street SW, Room 8210, Washington, DC 20410; email Colette Pollard at Colette.Pollard@hud.gov or telephone 202-402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on February 28, 2023 at 88 FR 12692.

A. Overview of Information Collection

Title of Information Collection: Application for HUD—Technical Assistance and Capacity Building Program Notice of Funding Opportunity (NOFO).

OMB Approval Number: 2506-0197.

Type of Request: Extension.

Form Number: SF-424 Application for Federal Assistance, HUD-424B, HUD-424CB, HUD-424CBW-I, Grants.gov Certification Regarding Lobbying, HUD-2880 Applicant/Recipient Disclosure/Update Report, HUD-50070 Certification for a Drug-Free Workplan, HUD-4131, HUD-4132, HUD-4134, SF-425, SF-LLL, SF-424-Key Contacts, HUD-4133, HUD-4135, HUD-4136, HUD-4137, HUD-4138, HUD-4139, and HUD-4140.

Description of the need for the information and proposed use: Application information is needed to determine competition winners, i.e., the technical assistance providers best able to help HUD's customers navigate complex housing and community development challenges by equipping HUD customers with the knowledge, skills, tools, capacity, and systems to implement HUD programs and policies successfully and sustainably and provide effective administrative and managerial oversight of HUD funding. Additional information is needed during the life of the award from the competition winner, i.e., the technical assistance providers to fulfill the administrative requirements of the award.

Application/Pre-Award

Respondents: Profit and non-profit organizations.

Estimated Number of Respondents: 60.

Estimated Number of Responses: 60.

Frequency of Response: 1.

Average Hours per Response: 118.14.

Application/Pre-Award Total Estimated Burden: 7088.40.

Post-Award

Estimated Number of Respondents/Awardees: 30.

Work Plans: 10 per year/awardee.

Average Hours per Response: 18.

Reports: 4 per year/awardee.

Average Hours per Response: 6.

Recordkeeping: 12 per year/awardee.

Average Hours per Response: 16.

Post-Award Total Estimated Burden: 11070.

Total Estimated Burdens: 18,158.40.

Information collection | Number of respondents | Frequency of response | Responses per annum | Burden hour per response | Annual burden hours | Hourly cost per response * | Annual cost
Application/Pre-Award | 60 | 1 | 60 | 115.14 | 6,908.4 | $68.85 | $475,643.34
Post-Award |  |  |  |  |  |  |
Work Plans | 30 | 10 | 300 | 33 | 9,900 | 68.85 | 681,615.00
Reports | 30 | 12 | 360 | 1.5 | 540 | 68.85 | 37,179.00
Recordkeeping | 60 | 8 | 480 | 1.5625 | 750 | 68.85 | 51,637.50
Total |  |  |  |  | 18,158.40 |  | 1,246,074.84
* Per OMB, Standard Form should be listed, but the burden does not need to be included as part of the collection.
** Estimated cost for respondents is calculated from the December 2022 Department of Labor Bureau of Labor Statistics report on Employer Costs for Employee Compensation determined that the hourly rate of management, professional and related wages and salaries averaged $47.37 per hour plus $21.48 per hour for fringe benefits for a total $68.85 per hour.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2023-19037 Filed 9-1-23; 8:45 am]

BILLING CODE 4210-67-P